FEDERAL COMMUNICATIONS COMMISSION

47 CFR Part 25

[IB Docket No. 95-91; FCC 12-130]

Establishment of Rules and Policies for the Digital Audio Radio Satellite Service in the 2310-2360 MHz Frequency Band

AGENCY: Federal Communications Commission.

ACTION: Final rule; announcement of effective date.

SUMMARY: In this document, the Commission announces that the Office of Management and Budget (OMB) has approved, for a period of three years, the revised information collections for Satellite Digital Audio Radio Service (SDARS) terrestrial repeaters adopted in an Order on Reconsideration of the Commission's rules to Govern the Operation of Wireless Communications Services in the 2.3 GHz Band; Establishment of Rules and Policies for the Digital Audio Radio Satellite Service in the 2310-2360 MHz Frequency Band,” WT Docket No. 07-293, IB Docket No. 95-91 (FCC 12-130). This notice is consistent with the Order on Reconsideration, which stated that the Commission would publish a document in the Federal Register announcing the effective date of those rules.

DATES: The amendments to 47 CFR 25.263(b) and 25.263(c) published at 78 FR 9605, February 11, 2013, are effective July 23, 2013.

FOR FURTHER INFORMATION CONTACT: Stephen Duall, Satellite Division, International Bureau, at (202) 418-1103, or email: stephen.duall@fcc.gov.

SUPPLEMENTARY INFORMATION: This document announces that, on June 27, 2013, OMB approved, for a period of three years, the revised information collection requirements relating to the access stimulation rules contained in the Commission's Order on Reconsideration, FCC 12-130, published at 78 FR 9605, February 11, 2013. The OMB Control Number is 3060-1153. The Commission publishes this notice as an announcement of the effective date of the rules. If you have any comments on the burden estimates listed below, or how the Commission can improve the collections and reduce any burdens caused thereby, please contact Cathy Williams, Federal Communications Commission, Room 1-C823, 445 12th Street SW., Washington, DC 20554. Please include the OMB Control Number, 3060-1153, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on June 27, 2013, for the information collection requirements contained in the modifications to the Commission's rules in 47 CFR part 25.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-1153.

The foregoing notice is required by the Paperwork Reduction Act of 1995, Public Law 104-13, October 1, 1995, and 44 U.S.C. 3507.

The total annual reporting burdens and costs for the respondents are as follows:

OMB Control Number: 3060-1153.

OMB Approval Date: June 27, 2013.

OMB Expiration Date: June 30, 2016.

Title: Satellite Digital Radio Service (SDARS).

Form Number: N/A.

Respondents: Business or other for-profit entities.

Number of Respondents and Responses: 1 respondent; 54 responses.

Estimated Time per Response: 3-12 hours.

Frequency of Response: Annual and on-occasion reporting requirements; Recordkeeping requirement; Third party disclosure requirement.

Obligation to Respond: Required to obtain or retain benefits. The statutory authority for this information collection is contained in sections 4, 301, 302, 303, 307, 309, and 332 of the Communications Act of 1934, as amended, 47 U.S.C. 154, 301, 302a, 303, 307, 309, and 332.

Total Annual Burden: 308 hours.

Total Annual Cost: $97,710.

Nature and Extent of Confidentiality: An assurance of confidentiality is not offered because the information collection does not affect individuals or households; thus, there are no impacts under the Privacy Act.

Privacy Act: No impact(s).

Needs and Uses: The Federal Communications Commission (“Commission”) received approval from the Office of Management and Budget (OMB) to revise OMB Control No. 3060-1153 to reflect new and/or modified information collections as a result of an Order on Reconsideration titled “In the Matter of Amendment of part 27 of the Commission's rules to Govern the Operation of Wireless Communications Services in the 2.3 GHz Band; Establishment of Rules and Policies for the Digital Audio Radio Satellite Service in the 2310-2360 MHz Frequency Band,” WT Docket No. 07-293, IB Docket No. 95-91 (FCC 12-130).

On October 17, 2012, the Commission adopted and released an Order on Reconsideration that addressed five petitions for reconsideration of the 2010 WCS R&O and SDARS 2nd R&O. The petitions sought reconsideration or clarification of the Commission's decisions in the 2010 WCS R&O and SDARS 2nd R&O regarding the technical and policy rules governing the operation of WCS stations in the 2305-2320 MHz and 2345-2360 MHz bands and the operation of SDARS terrestrial repeaters in the 2320-2345 MHz band.

As part of the Order on Reconsideration, the Commission adopted proposals to relax the notification requirements for SDARS licensees under § 25.263(b) & (c) of the Commission's rules. As adopted in the 2010 WCS R&O and SDARS 2nd R&O, § 25.263(b) requires SDARS licensees to share with WCS licensees certain technical information at least 10 business days before operating a new repeater, and at least 5 business days before operating a modified repeater. Under § 25.263(c), SDARS licensees operating terrestrial repeaters must maintain an accurate and up-to-date inventory of all terrestrial repeaters, including the information set forth in § 25.263(c)(2) for each repeater, which must be made available to the Commission upon request.

The following modified information collections are contained in the Order on Reconsideration and received OMB approval:

47 CFR 25.263(b)—SDARS licensees are required to provide informational notifications as specified in § 25.263, including a requirement that SDARS licensees must share with WCS licensees certain technical information at least 10 business days before operating a new repeater, and at least 5 business days before operating a modified repeater; exempting modifications that do not increase the predicted power flux density at ground level by more than one decibel (dB) (cumulative) and exempting terrestrial repeaters operating below 2 watts equivalent isotropically radiated power.

47 CFR 25.263(c)—SDARS licensees operating terrestrial repeaters must maintain an accurate and up-to-date inventory of terrestrial repeaters operating above 2 W EIRP, including the information set forth in § 25.263(c)(2) for each repeater, which shall be made available to the Commission upon request. Requirement can be satisfied by maintaining inventory on a secure Web site that can be accessed by authorized Commission staff.

The information collection requirements contained in § 25.263 are necessary to determine the potential of radiofrequency interference from SDARS terrestrial repeaters to WCS stations. Without such information, the Commission would be unable to fulfill its statutory responsibilities in accordance with the Communications Act of 1934, as amended.

The information collection requirements contained in § 25.263 are necessary to determine the potential of radiofrequency interference from SDARS terrestrial repeaters to Wireless Communications Service (WCS) stations in adjacent frequency bands. Without such information, the Commission would be unable to fulfill its statutory responsibilities in accordance with the Communications Act of 1934, as amended.

Federal Communications Commission.
Marlene H. Dortch,
Secretary, Office of the Secretary, Office of Managing Director.

[FR Doc. 2013-17647 Filed 7-22-13; 8:45 am]

BILLING CODE 6712-01-P